DEPARTMENT OF JUSTICE

Antitrust Division

Notice Pursuant to the National Cooperative Research and Production Act of 1993—Petroleum Environmental Research Forum Project No. 2013-10, Pressure Relief Valve (PRV) Stability Research Program

Notice is hereby given that, on April 6, 2015, pursuant to Section 6(a) of the National Cooperative Research and Production Act of 1993, 15 U.S.C. 4301 et seq. (“the Act”), Petroleum Environmental Research Forum Project No. 2013-10, Pressure Relief Valve (PRV) Stability Research Program (“PERF Project No. 2013-10”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research & Engineering Company, Fairfax, VA; BP Products North America Inc., Naperville, IL; Chevron U.S.A. Inc., a Pennsylvania corporation, acting through its Chevron Energy Technology Company division, Houston, TX; The Dow Chemical Company Midland, Midland, MI; Flint Hills Resources LP, Wichita, KS; Phillips 66 Company, Houston, TX; LyondellBasell Industries, Houston, TX; Marathon Petroleum Company LP, Findlay, OH; Shell Global Solutions (US) Inc., Houston, TX; Valero Energy Corp., San Antonio, TX; Bayer MaterialScience LLC, Pittsburgh, PA; and Siemens Energy, Inc., Houston, TX. The general area of PERF Project No. 2013-10's planned activity is, through cooperative research efforts, to better understand pressure relief valve (PRV) stable operation by creating a model, set of equations, or other tool that can be used by engineers to predict stability (e.g. flutter or chatter) for most of the PRV installations (from here on called “the model”). The model will need to be validated through literature and experimental results.

Patricia A. Brink,
Director of Civil Enforcement, Antitrust Division.

[FR Doc. 2015-13445 Filed 6-2-15; 8:45 am]

BILLING CODE P